INTERNATIONAL TRADE COMMISSION

[Investigation No. 701-TA-373 (Review)]

Stainless Steel Wire Rod From Italy

AGENCY: United States International Trade Commission.

ACTION: Termination of review.

SUMMARY: On June 29, 2004, the Department of Commerce (“Commerce”) notified the Commission of its negative final determination of the likelihood of continuation or recurrence of a countervailable subsidy in connection with the subject five-year review on stainless steel wire rod from Italy. On July 2, 2004, Commerce published notice in the FR of its determination (69 FR 40354). Accordingly, pursuant to section 751(c) of the Tariff Act of 1930 (19 U.S.C. 1675(c)), the five-year review of the countervailing duty order concerning stainless steel wire rod from Italy (investigation No. 701-TA-373 (review)) is terminated.

EFFECTIVE DATE: June 29, 2004.

FOR FURTHER INFORMATION CONTACT: Douglas Corkran (202-205-3057), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

Authority: This five-year review is being terminated under authority of title VII of the Tariff Act of 1930; this notice is published pursuant to section 207.69 of the Commission's rules (19 CFR 207.69).

By order of the Commission.
Issued: July 7, 2004.
Marilyn R. Abbott,
Secretary to the Commission.

[FR Doc. 04-15736 Filed 7-9-04; 8:45 am]

BILLING CODE 7020-02-P